DEPARTMENT OF COMMERCE

National Oceanic and Atmospheric Administration

[I.D. 042005A]

Endangered and Threatened Species; Take of Anadromous Fish

AGENCY: National Marine Fisheries Service (NMFS), National Oceanic and Atmospheric Administration (NOAA), Commerce.

ACTION: Applications for two scientific research permits (1531, 1532) and requests to modify two permits (1119, 1338).

SUMMARY: Notice is hereby given that NMFS has received two scientific research permit applications and two modification requests relating to Pacific salmon. The proposed research is intended to increase knowledge of species listed under the Endangered Species Act (ESA) and to help guide management and conservation efforts.

DATES: Comments or requests for a public hearing on the applications must be received at the appropriate address or fax number (see ADDRESSES) no later than 5 p.m. Pacific daylight-saving time on May 31, 2005.

ADDRESSES: Written comments on the application should be sent to Protected Resources Division, NMFS, 1201 NE Lloyd Blvd., Suite 1100, Portland, OR 97232-1274. Comments may also be sent via fax to 503-230-5441 or by e-mail to resapps.nwr@NOAA.gov.

FOR FURTHER INFORMATION CONTACT:

Garth Griffin, Portland, OR (ph.: 503-231-2005, Fax: 503-230-5441, e-mail: Garth.Griffin@noaa.gov). Permit application instructions are available at http://www.nwr.noaa.gov.

SUPPLEMENTARY INFORMATION:

Species Covered in This Notice

The following listed species and evolutionarily significant units (ESUs) are covered in this notice:

Chinook salmon (Oncorhynchus tshawytscha): endangered natural and artificially propagated upper Columbia River (UCR); threatened natural and artificially propagated Snake River (SR) spring/summer (spr/sum); threatened SR fall; threatened lower Columbia River (LCR).

Chum salmon (O. keta): threatened Columbia River (CR).

Steelhead (O. mykiss): threatened middle Columbia River (MCR); endangered UCR.

Coho salmon (O. kisutch): threatened Southern Oregon/Northern California Coast (SONCC).

Authority

Scientific research permits are issued in accordance with section 10(a)(1)(A) of the ESA (16 U.S.C. 1531 et. seq) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). The holding of such a hearing is at the discretion of the Assistant Administrator for Fisheries, NMFS.

Applications Received

Permit 1119 - Modification 2

The U.S. Fish and Wildlife Service (FWS) is seeking to modify its 5-year permit covering six studies that, among them, would annually take adult and juvenile endangered UCR spring chinook salmon (natural and artificially propagated) and UCR steelhead (natural and artificially propagated) at various points in the Wenatchee, Entiat, Methow, Okanogan, and Yakima River watersheds and other points in eastern Washington State. The ongoing research projects are: Study 1-Recovery of ESA-listed Entiat River Salmonids through Improved Management Actions; Study 2-Peshastin Creek Salmonid Production and Life History Investigations; Study 3-Entiat Basin Spawning Ground Surveys; Study 4-Snorkel Surveys in the Wenatchee, Entiat, Methow, Okanogan, and Yakima Watersheds and Other Waterways of Eastern Washington; Study 5-Fish Salvage Activities in the Wenatchee, Entiat, Methow, Okanogan, and Yakima Watersheds and other Waterways of Eastern Washington; Study 6-Icicle Creek Salmonid Production and Life History Investigations. The FWS is only asking to change the first two studies. Under the ongoing research, listed adult and juvenile salmon and steelhead would be variously (a) captured (using nets, traps, and electrofishing equipment) and anesthetized; (b) sampled for biological information and tissue samples; (c) tagged with PIT tags or other identifiers; (d) marked and recaptured to determine trap efficiency, and (e) released.

The research has many purposes and would benefit listed salmon and steelhead in different ways. In general, the purposes of the research are to (a) gain current information on the status and productivity of various fish populations (to be used in determining the effectiveness of restoration programs); (b) collect data on the how well artificial propagation programs are helping salmon recovery efforts (looking at hatchery and wild fish interactions); (c) support the aquatic species restoration goals found in several regional plans; and (d) fulfill ESA requirements for several fish hatcheries. The fish would benefit through improved recovery actions, better designs for hatchery supplementation programs, and by being rescued outright when they are stranded by low flows in Eastern Washington streams. The FWS does not intend to kill any of the fish being captured, but a small percentage may die as an unintentional result of the research activities.

Permit 1338 - Modification 1

The FWS is asking to modify its 5-year permit to continue studying salmonids in tributaries of the Lower Columbia River. The FWS is requesting to increase its annual take of juvenile LCR chinook salmon and CR chum salmon because the abundance of juvenile salmon has increased in the study area.

The research is designed to provide a better understanding of life history requirements and factors affecting chum salmon in Hardy Creek and in Hamilton Springs and ultimately to improve the conservation of salmonids in the lower Columbia River. The study will benefit listed chum salmon by providing information on their freshwater life history that can be used in Columbia River water management and recover planning. The FWS is requesting authorization to capture (using fyke nets, weirs, or screw traps), handle, mark, and release additional juvenile fish. The USFWS does not intend to kill any fish being captured but some additional fish may die as an unintentional result of the research activities.

Permit 1531

Aaron Maxwell of the Southern Oregon University (SOU) is asking for a 3-year research permit to identify existing salmonid strongholds and detail threats to salmonid survival and recovery. The research will take place in Bear Creek, a tributary to the Rogue River in southern Oregon. The SOU is requesting to take juvenile SONCC coho salmon.

The research is designed to assess species abundance and to further document the location of habitats occupied by native and non-native fish species in the Bear Creek Watershed. Detailed species abundance data will be used to identify productive habitats and to prioritize sites of feasible restoration potential. The study will benefit listed coho salmon by providing information on habitat that could be used for the long-term protection of intact ecosystems in the Klamath-Siskiyou Bioregion. The SOU proposes to capture, using minnow traps, handle, and release listed salmonids. The SOU does not intend to kill any fish being captured but some may die as an unintentional result of the research activities.

Permit 1532

The Columbia River Inter-Tribal Fish Commission (CRITFC) is seeking a 5-year permit to take juvenile MCR steelhead during the course of research designed to determine their freshwater movements and how those movements are affected by the area's substantially altered hydrograph. The research will take place in Satus, Ahtanum, and Toppenish Creeks, Washington.

The fish will be captured using screw traps, anesthetized, and some will be tissue-sampled and some will receive passive integrated transponder (PIT) tags. The information gathered will be used to determine the fishes' movements, abundance, and the ongoing status of the various MCR steelhead populations in the Yakima River subbasin. The research will benefit the fish by helping managers determine the effectiveness of current recovery measures and design new ones where needed. The CRITFC does not plan to kill any of the fish being captured, but a few may die as an unintentional result of the research.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: April 21, 2005.
Phil Williams,
Chief, Endangered Species Division, Office of Protected Resources, National Marine Fisheries Service.

[FR Doc. 05-8463 Filed 4-27-05; 8:45 am]

BILLING CODE 3510-22-S